INTERNATIONAL TRADE COMMISSION

[Investigation Nos. 701-TA-401 and 731-TA-853-854 (Review)]

Structural Steel Beams From Japan and Korea

Determinations

On the basis of the record ¹ developed in the subject five-year reviews, the United States International Trade Commission (Commission) determines, pursuant to section 751(c) of the Tariff Act of 1930 (19 U.S.C. 1675(c)) (the Act), that revocation of the antidumping order on structural steel beams from Japan and revocation of the antidumping and countervailing duty orders on structural steel beams from Korea would not be likely to lead to continuation or recurrence of material injury to an industry in the United States within a reasonably foreseeable time.²

¹ The record is defined in sec. 207.2(f) of the Commission's Rules of Practice and Procedure (19 CFR § 207.2(f)).

² Commissioner Charlotte R. Lane dissenting.

Background

The Commission instituted these reviews on May 2, 2005 (70 FR 22696) and determined on August 5, 2005 that it would conduct full reviews (70 FR 48440, August 17, 2005). Notice of the scheduling of the Commission's reviews and of a public hearing to be held in connection therewith was given by posting copies of the notice in the Office of the Secretary, U.S. International Trade Commission, Washington, DC, and by publishing the notice in the Federal Register on September 19, 2005 (70 FR 54962).³ The hearing was held in Washington, DC, on January 12, 2006, and all persons who requested the opportunity were permitted to appear in person or by counsel.

³ The revised schedule for the subject reviews was published on November 4, 2005 (70 FR 67193).

The Commission transmitted its determinations in this investigation to the Secretary of Commerce on March 9, 2006. The views of the Commission are contained in USITC Publication 3840 (March 2006), entitled Structural Steel Beams from Japan and Korea: Investigation Nos. 701-TA-401 and 731-TA-853-854 (Review).

By order of the Commission.
Issued: March 9, 2006.
Marilyn R. Abbott,
Secretary to the Commission.

[FR Doc. E6-3718 Filed 3-14-06; 8:45 am]

BILLING CODE 7020-02-P